DEPARTMENT OF THE TREASURY

Submission for OMB Review; Comment Request

May 11, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 18, 2007 to be assured of consideration.

Internal Revenue Service (IRS)

OMB Number: 1545-0959.

Type of Review: Extension.

Title: LR-213-76 (Final) Estate and Gift Taxes; Qualified Disclaimers of Property.

Description: Section 2518 allows a person to disclaim an interest in property received by gift or inheritance. The interest is treated as if the disclaimant never received or transferred such interest for Federal gift tax purposes. A qualified disclaimer must be in writing and delivered to the transferor or trustee.

Respondents: Individuals or households.

Estimated Total Burden Hours: 1,000 hours.

OMB Number: 1545-0181.

Type of Review: Revision.

Title: Application for Extension of Time to File a Return and/or Pay U.S. Estate (and Generation-Skipping Transfer) Taxes.

Form: 4768.

Description: Form 4768 is used by estates to request an extension of time to file an estate (and GST) tax return and/or to pay the estate (and GST) taxes and to explain why the extension should be granted. IRS uses the information to decide whether the extension should be granted.

Respondents: Businesses and other for-profit institutions.

Estimated Total Burden Hours: 30,710 hours.

OMB Number: 1545-1668.

Type of Review: Revision.

Title: Return of U.S. Persons With Respect to Certain Foreign Partnerships.

Form: 8865.

Description: The Taxpayer Relief Act of 1997 significantly modified the information reporting requirements with respect to foreign partnerships. The Act made the following three changes (1) expanded section 6038B to require U.S. persons transferring property to foreign partnerships in certain transactions to report those transfers; (2) expanded section 6038 to require certain U.S. Partners of controlled foreign partnerships to report information about the partnerships; and (3) modified the reporting required under section 6046A with respect to acquisitions and dispositions of foreign partnership interests.

Respondents: Businesses or other for-profit institutions.

Estimated Total Burden Hours: 296,124 hours.

OMB Number: 1545-1592.

Type of Review: Extension.

Title: Revenue Procedure 98-20, Certification for No Information Reporting on the Sale of a Principal Residence.

Description: The revenue procedure applies only to the sale of a principal residence for $250,000 or less ($500,000 or less if the seller is married). The revenue procedure provides the written assurances that are acceptable to the Service for exempting a real estate reporting person from information reporting requirements for the sale of a principal residence.

Respondents: Individuals or households.

Estimated Total Burden Hours: 420,500 hours.

OMB Number: 1545-1212.

Type of Review: Extension.

Title: U.S. Estate Tax Return for Qualified Domestic Trusts.

Form: 706-QDT.

Description: Form 706-QDT is used by the trustee or the designated filer to compute and report the Federal estate tax imposed on qualified domestic trusts by C section 2056A. IRS uses the information to enforce this tax and to verify that the tax has been properly computed.

Respondents: Individuals or households.

Estimated Total Burden Hours: 357 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-9514 Filed 5-16-07; 8:45 am]

BILLING CODE 4830-01-P